DEPARTMENT OF LABOR

Office of the Secretary

Agency Information Collection Activities; Submission for OMB Review; Comment Request; Training, Training Plans, and Records

ACTION: Notice.

SUMMARY: The Department of Labor (DOL) is submitting the Mine Safety and Health Administration sponsored information collection request (ICR) titled, “Training, Training Plans, and Records,” to the Office of Management and Budget (OMB) for review and approval for continued use in accordance with the Paperwork Reduction Act (PRA) of 1995.

DATES: Submit comments on or before July 27, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-MSHA, Office of Management and Budget, Room 10235, New Executive Office Building, Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

SUPPLEMENTARY INFORMATION: In 1999, the MSHA published its final rule for 30 CFR part 46, Training, Training Plans, and Records for miners working at shell dredging, sand, gravel, surface stone, surface clay, colloidal phosphate, and surface limestone mines, the operations addressed by part 46 regulations. Between 1995 and 1999, miners in these operations worked 1.07 billion hours and experienced 130 fatal injuries. Between 2007 and 2011, miners at part 46 mines worked 848 million hours and experienced 40 deaths, about 21 percent fewer hours and about 69 percent fewer fatalities. From 1999 through 2011, MSHA promulgated no other significant safety regulations affecting this industry sector.

Training informs miners of safety and health hazards inherent in the workplace and enables them to identify and avoid such hazards. Training becomes even more important in light of certain conditions that can exist when production demands increase, such as an influx of new and less experienced miners and mine operators; longer work hours to meet production demands; and increased demand for contractors who may be less familiar with the dangers on mine property.

The MSHA objective in these existing health and safety training requirements is to ensure that all miners receive the required training, which would result in a decrease in accidents, injuries, and fatalities. The MSHA enforces training requirements at approximately 12,559 surface nonmetal mines and contractors, 10,577 of which are covered by part 46 and 1,882 of which are covered by part 48. The information collection burden under part 48 is covered under OMB 1219-0009.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1219-0131. The current OMB approval is scheduled to expire on June 30, 2012; however, it should be noted that existing information collection requirements submitted to the OMB receive a month-to-month extension while they undergo review. For additional information, see the related notice published in the Federal Register on March 22, 2012 (77 FR 16862).

Interested parties are encouraged to send comments to the OMB, Office of Information and Regulatory Affairs at the address shown in the ADDRESSES section within 30 days of publication of this notice in the Federal Register. In order to help ensure appropriate consideration, comments should mention OMB Control Number 1219-0131. The OMB is particularly interested in comments that:

• Evaluate whether the proposed collection of information is necessary for the proper performance of the functions of the agency, including whether the information will have practical utility;

• Evaluate the accuracy of the agency estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Training, Training Plans, and Records Under 30 CFR Part 46.

OMB Control Number: 1219-0131.

Affected Public: Private Sector—Businesses or other for-profits and Not-for profit institutions.

Total Estimated Number of Respondents: 10,577.

Total Estimated Number of Responses: 1,025,161.

Total Estimated Annual Burden Hours: 137,571.

Total Estimated Annual Other Costs Burden: $315,641.

Dated: June 20, 2012.
Michel Smyth,
Departmental Clearance Officer.

[FR Doc. 2012-15599 Filed 6-26-12; 8:45 am]

BILLING CODE 4510-43-P